DEPARTMENT OF EDUCATION

National Advisory Committee on Institutional Quality and Integrity; Notice of Meeting

AGENCY: National Advisory Committee on Institutional Quality and Integrity (NACIQI or Committee), Office of Postsecondary Education, U.S. Department of Education.

ACTION: Announcement of an open meeting.

SUMMARY: This notice sets forth the agenda, time, and instructions to access or participate in the February 19-20, 2025 meeting of NACIQI, and provides information to members of the public regarding the meeting, including requesting to make written or oral comments. Committee members will meet in-person while accrediting agency representatives and public attendees will participate virtually.

DATES: The NACIQI meeting will be held on February 19-20, 2025 from 9 a.m. to 5 p.m. eastern standard time.

ADDRESSES: U.S. Department of Education, 400 Maryland Avenue SW, Barnard Auditorium, Washington, DC 20202 [Only NACIQI members and Department of Education staff will participate in the meeting at this address]. There is a possibility that the meeting could shift to a virtual meeting for all participants. If that happens, the published registration link and supporting information described in this notice for public attendees will remain the same.

FOR FURTHER INFORMATION CONTACT: George Alan Smith, Executive Director/Designated Federal Official (DFO), NACIQI, U.S. Department of Education, 400 Maryland Avenue SW, Washington, DC 20202, telephone: (202) 453-7757, or email: George.Alan.Smith@ed.gov.

SUPPLEMENTARY INFORMATION:

Statutory Authority and Function: NACIQI is established under Section 114 of the Higher Education Act (HEA) (20 U.S.C. 1011c). NACIQI advises the Secretary of Education with respect to:

• The establishment and enforcement of the standards of accrediting agencies or associations under subpart 2, part H, title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory function relating to accreditation and institutional eligibility that the Secretary of Education may prescribe by regulation.

The notice of this meeting is required under 5 U.S.C. chapter 10 (commonly known as the Federal Advisory Committee Act) and section 114(d)(1)(B) of the HEA of 1965, as amended.

Meeting Agenda

The purpose of the meeting is to conduct a review of compliance reports submitted by the following agencies.

Compliance Reports

1. American Occupational Therapy Association, Accreditation Council for Occupational Therapy Education. Scope of Recognition: The accreditation and preaccreditation of occupational therapy educational programs offering the professional master's degree and occupational therapy doctorate (OTD) degree; the accreditation of occupational therapy assistant programs offering a baccalaureate degree and associate degree; and the accreditation of these programs offered via distance education. Geographic Area of Accrediting Activities: The United States. The compliance report includes findings of noncompliance with certain criteria in 34 Code of Federal Regulations (CFR) part 602 identified in the October 19, 2022, letter from the senior Department official (SDO) following the July 19, 2022, NACIQI meeting. The SDO letter is available under NACIQI meeting date 7/19/2022, at https://surveys.ope.ed.gov/erecognition/#/public-documents.

2. Accrediting Council for Pharmacy Education. Scope of Recognition: The accreditation and pre-accreditation of professional degree programs in pharmacy leading to the degree of Doctor of Pharmacy, including those programs offered via distance education. Geographic Area of Accrediting Activities: The United States. The compliance report includes findings of noncompliance with certain criteria in 34 CFR part 602 identified in the November 7, 2022, letter from the SDO following the July 19, 2022, NACIQI meeting. The SDO letter is available under NACIQI meeting date 7/19/2022, at https://surveys.ope.ed.gov/erecognition/#/public-documents.

3. Middle States Commission on Secondary Schools. Scope of Recognition: The accreditation of institutions with postsecondary, non-degree granting career and technology programs, to include the accreditation of postsecondary, non-degree granting institutions that offer all or part of their educational programs via distance education modalities. Geographic Area of Accrediting Activities: The United States. The compliance report includes findings of noncompliance with certain criteria in 34 CFR part 602 identified in the October 19, 2022, letter from the SDO following the July 19, 2022, NACIQI meeting. The SDO letter is available under NACIQI meeting date 7/19/2022, at https://surveys.ope.ed.gov/erecognition/#/public-documents.

4. Southern Association of Colleges and Schools, Commission on Colleges. Scope of Recognition: The accreditation and pre-accreditation (“Candidate for Accreditation”) of degree-granting institutions of higher education in Alabama, Florida, Georgia, Kentucky, Louisiana, Mississippi, North Carolina, South Carolina, Tennessee, Texas, and Virginia, including the accreditation of educational programs offered via distance and correspondence education, and direct assessment within these institutions. The accreditation status of these institutions and their recognition extends to the SACSCOC Board of Trustees, Executive Council, and the Appeals Committee of the Collegiate College Delegate Assembly on cases of initial candidacy or initial accreditation and for continued accreditation or candidacy. The compliance report includes findings of noncompliance with certain criteria in 34 CFR part 602 identified in the November 7, 2022, letter from the SDO following the July 19, 2022, NACIQI meeting. The SDO letter is available under NACIQI meeting date 7/19/2022, at https://surveys.ope.ed.gov/erecognition/#/public-documents.

To ensure sufficient time for all agency reviews, including NACIQI questions and discussion, the Department requests that the agencies limit their opening statements to 10 minutes (total for one or more statements), and that the agencies avoid extended discussions about agency representatives and their backgrounds. Following the brief opening statement, the agency's presentation should focus on the regulatory criteria, and in particular, responses to areas where the staff has recommended a finding of noncompliance or substantial compliance, or where other concerns have been raised that the agency would like to address. However, the agency should expect that questions from NACIQI members may focus on other areas.

Policy Discussion

In addition to its review of accrediting agencies and State approval agencies for Secretarial recognition, there will be time for Committee discussions regarding any of the categories within NACIQI's statutory authority in its capacity as an advisory committee.

Instructions for Accessing the Meeting

Registration

Committee members will meet in-person while agency representatives and public attendees will participate virtually.

You may register for the meeting on your computer using the link below. After you register, you will receive a confirmation email containing personalized participation links for each day of the two-day meeting no later than 8 a.m. eastern standard time on February 19, 2025.

Registration Link

https://events.zoomgov.com/ev/AkUnUrmMegceMmqd0BBblHaDGCqw5xwkYhy7XdPs2bDUwoDZXDJx~AgNwP68fGGyDttDmaZQKfk65rIXCitGkp4r-TJkFVvAEgODt55SEmBafYw

Public Comment

Submission of requests to make an oral comment regarding a specific accrediting agency under review, or to make an oral comment or written statement regarding other issues within the scope of NACIQI's authority:

Opportunity to submit a written statement regarding a specific accrediting agency under review was solicited by a previous Federal Register notice published on November 6, 2023 (88 FR 76194; Document Number 2023-24434). The period for submission of such statements is now closed. Additional written statements regarding a specific accrediting agency or state approval agency under review will not be accepted at this time. However, members of the public may submit written statements regarding other issues within the scope of NACIQI's authority, as outlined under section 114 of the HEA (20 U.S.C. 1011c).

Members of the public may make oral comments regarding a specific accrediting agency under review and/or other issues within the scope of NACIQI's authority. Oral comments may not exceed three minutes. Oral comments about an agency's recognition when a compliance report has been required by the SDO or the Secretary must relate to the criteria for recognition cited in the SDO's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at https://www.ed.gov/admins/finaid/accred/index.html.

Instructions on Requesting To Make Public Comment

To request to make oral comments of three minutes or less during the February 19-20, 2025 meeting, please follow either Method One or Method Two below. To submit a written statement to NACIQI concerning its work outside a specific accrediting agency under review, please follow Method One.

Method One: Submit an email to the ThirdPartyComments@ed.gov mailbox. Please do not send material directly to NACIQI members. In order to be considered for the current cycle review, written statements and requests to make oral comment must be received by February 12, 2025 and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Method Two (Only available to those seeking to make oral comments): Submit a request by email on February 19, 2025, between 7:45 a.m.-8:45 a.m. eastern standard time to the ThirdPartyComments@ed.gov mailbox. The email must include the subject on which the requestor wishes to comment, in addition to his or her name, title, organization/affiliation, mailing address, email address, and telephone number. If you intend to make your comments by dialing into the meeting rather than using a computer, please be sure to include that information in your email request. A total of up to fifteen minutes for each agenda item will be allotted for oral commenters who register on February 19, 2025 between 7:45 a.m. and 8:45 a.m. eastern standard time. Individuals will be selected on a first-come, first-served basis. If selected, each commenter may not exceed three minutes.

Access to Records of the Meeting: The Department will post the official report of the meeting on the NACIQI website https://sites.ed.gov/naciqi/archive-of-meetings/ within 90 days after the meeting. In addition, pursuant to 5 U.S.C. 1009, the public may request to inspect records of the meeting at 400 Maryland Avenue SW, Washington, DC, by emailing aslrecordsmanager@ed.gov or by calling (202) 453-7415 to schedule an appointment. The SDO's (as defined in 34 CFR 602.3) decisions, pursuant to 34 CFR 602.36, associated with all NACIQI meetings can be found at the following website: https://surveys.ope.ed.gov/erecognition/#/public-documents.

Reasonable Accommodations: The dial-in information and weblink access to the meeting are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1964, as amended (20 U.S.C. 1011c).

Nasser Paydar,
Assistant Secretary, Office of Postsecondary Education.

[FR Doc. 2025-01459 Filed 1-21-25; 8:45 am]

BILLING CODE 4000-01-P